DEPARTMENT OF THE TREASURY

Internal Revenue Service

26 CFR Part 301

[TD 9375]

RIN 1545-BA96

Guidance Necessary To Facilitate Electronic Tax Administration—Updating of Section 7216 Regulations; Correction

AGENCY: Internal Revenue Service (IRS), Treasury.

ACTION: Final regulations; correction.

SUMMARY: This document contains corrections to final regulations (TD 9375) that were published in the Federal Register on Monday, January 7, 2008 (73 FR 1058) regarding the disclosure and use of their tax return information by tax return preparers.

DATES: The correction is effective February 13, 2008.

FOR FURTHER INFORMATION CONTACT: Lawrence Mack, (202) 622-4940 (not a toll-free number).

SUPPLEMENTARY INFORMATION:

Background

The final regulations (TD 9375) that are the subject of the correction are under Section 7216 of the Internal Revenue Code.

Need for Correction

As published, final regulations (TD 9375) contain errors that may prove to be misleading and are in need of clarification.

Correction of Publication

Accordingly, the publication of the final regulations (TD 9375), which were the subject of FR Doc. 08-1, is corrected as follows:

1. On page 1058, column 3, in the preamble, under the paragraph heading “Background”, seventh line of the fifth paragraph of the column, the language “2005-52 I.R.B. 1204 (December 07,” is corrected to read “2005-52 I.R.B. 1204 (December 7,”.

2. On page 1062, column 1, in the preamble, under the paragraph heading “D. Disclosures to Other Tax Return Preparers”, thirteenth line of the column, the language “Service provider. The commentator's” is corrected to read “service provider. The commentator's”.

3. On page 1066, column 3, in the preamble, under the paragraph heading “H. Multiple Disclosures or Multiple Uses Within a Single Consent Form”, fifteenth line of the second paragraph, the language “Section 301-7216-3(c)(1) of the final” is corrected to read “Section 301.7216-3(c)(1) of the final”.

LaNita Van Dyke,
Chief, Publications and Regulations Branch, Legal Processing Division, Associate Chief Counsel, (Procedure and Administration).

[FR Doc. E8-2597 Filed 2-12-08; 8:45 am]

BILLING CODE 4830-01-P